DEPARTMENT OF AGRICULTURE

Rural Business-Cooperative Service

[Docket #: RBS-24-CO-OP-0002]

Notice of Funding Opportunity for the Socially Disadvantaged Groups Grant for Fiscal Year 2024

AGENCY: Rural Business-Cooperative Service, USDA.

ACTION: Notice.

SUMMARY: This notice announces that the Rural Business-Cooperative Service (RBCS or the Agency), a Rural Development (RD) agency of the United States Department of Agriculture (USDA), invites applications for grants under the Socially Disadvantaged Groups Grant (SDGG) program for Fiscal Year (FY) 2024. This notice is being issued to allow applicants sufficient time to leverage financing, prepare and submit their applications, and give the Agency time to process applications within FY 2024. A total of $3,000,000 in grant funding will be available for FY 2024. Successful applications will be selected by the Agency for funding and subsequently awarded to the extent that funding may ultimately be made available through appropriations. All applicants are responsible for any expenses incurred in developing and submitting their applications.

DATES: Complete applications for grants must be submitted electronically by 11:59 p.m. Eastern Time (ET) on June 3, 2024, through www.grants.gov to be eligible for grant funding. Applications received after the deadline are not eligible for funding under this notice and will not be evaluated. Applicants are advised to not wait until the application deadline date to begin the application process through Grants.gov.

ADDRESSES: Applicants are encouraged to contact the USDA RD State Office prior to May 3, 2024 to discuss the project and ask any questions about the application process. Contact information for USDA RD State Offices can be found at www.rd.usda.gov/contact-us/state-offices.

Program guidance as well as application templates may be obtained at www.rd.usda.gov/programs-services/socially-disadvantaged-groups-grant or by contacting the USDA RD State Office. To submit an electronic application, follow the instructions for the SDGG funding announcement located at www.grants.gov. Applicants are strongly encouraged to file applications early to allow sufficient time to manage any technical issues.

FOR FURTHER INFORMATION CONTACT: Arti Kshirsagar at arti.kshirsagar@usda.gov, Program Management Division, RBCS, USDA, 1400 Independence Avenue SW, Mail Stop 3226, Washington, DC 20250-3226 or call (202) 720-1400.

SUPPLEMENTARY INFORMATION:

Overview

Federal Awarding Agency Name: Rural Business-Cooperative Service.

Funding Opportunity Title: Socially Disadvantaged Groups Grant.

Announcement Type: Notice of Funding Opportunity.

Funding Opportunity Number: RBCS-SDGG-22024.

Assistance Listing Number: 10.871.

Dates: Complete applications for grants must be submitted electronically no later than 11:59 p.m. ET on June 3, 2024, through www.grants.gov to be eligible for grant funding. Applications received after the deadline are not eligible for funding under this notice and will not be evaluated.

Rural Development Key Priorities. The Agency encourages applicants to consider projects that will advance the following key priorities (more details available at www.rd.usda.gov/priority-points):

• Addressing Climate Change and Environmental Justice; Reducing climate pollution and increasing resilience to the impacts of climate change through economic support to rural communities.

• Advancing Racial Justice, Place-Based Equity, and Opportunity; Ensuring all rural residents have equitable access to RD programs and benefits from RD funded projects.

• Creating More and Better Market Opportunities; Assisting rural communities recover economically through more and better market opportunities and through improved infrastructure.

A. Program Description

1. Purpose of the Program. The primary objective of the SDGG program is to provide technical assistance for cooperative development to socially disadvantaged groups through cooperatives and cooperative development centers. Grants must be used to provide technical assistance to socially disadvantaged groups in rural areas. Eligible applicants are cooperative development centers, individual cooperatives, or groups of cooperatives (i) that serve socially disadvantaged groups and (ii) of which a majority (i.e., greater than 50 percent rounded to the nearest tenth) of the board of directors or governing board is comprised of individuals who are members of socially disadvantaged groups.

2. Statutory and Regulatory Authority. The SDGG program is authorized by the Consolidated Farm and Rural Development Act (7 U.S.C. 1932(e)(11)).

Section 736 of Division B of the Consolidated Appropriations Act, 2024, Public Law 118-42 (the “2024 Appropriations Act”), designates funding for projects in persistent poverty counties. Persistent poverty counties as defined in Section 736 is “any county that has had 20 percent or more of its population living in poverty over the past 30 years, as measured by the 1990 and 2000 decennial censuses, and 2007-2011 American Community Survey 5-year average, or any territory or possession of the United States”. Another provision in Section 736 expands the eligible population in persistent poverty counties to include any county seat of such a persistent poverty county that has a population that does not exceed the authorized population limit by more than 10 percent. This provision expands the current 50,000 population limit to 55,000 for county seats located in persistent poverty counties. Therefore, applicants and/or beneficiaries of technical assistance services located in persistent poverty county seats with populations up to 55,000 are eligible.

3. Definitions. The following are the definitions for terms used in this notice. Additional terms used in this notice are found in the applicable laws and regulations, in particular 2 CFR part 200 and 7 CFR part 11. The first letter of each word in a defined term is capitalized throughout this notice for easy identification.

Agency. RBCS, an agency of the USDA RD or a successor agency.

Board of Directors/Governing Board—The group of individuals that govern, manage or direct a cooperative development center, cooperative, or group of cooperatives.

Conflict of Interest. A Conflict of Interest occurs in a situation in which a person or entity has a competing, or the appearance of a competing, personal, professional, or financial interests that makes it difficult for the person or entity to act impartially. No Conflict of Interest or appearance thereof will be allowed.

For purposes of this program, contractual relationship/payment from grant funds among the following individuals constitute a Conflict of Interest or appearance of a Conflict of Interest: (1) Applicant Board of Directors, employees, consultants, and contractors, (2) Subrecipients and their employees, consultants, and contractors, and (3) Immediate family members of the above.

Federal procurement standards prohibit transactions that involve a real or apparent Conflict of Interest for owners, employees, officers, agents, or their immediate family members having a financial or other interest in the outcome of the project or that restrict open and free competition for unrestrained trade. Specifically, project funds may not be used for services or goods going to, or coming from, a person or entity with a real or apparent Conflict of Interest, including, but not limited to, owner(s) and their Immediate family members.

Conflicts of Interest must be handled in accordance with 2 CFR parts 200 and 400. The following are examples of Conflicts of Interest and are intended to serve as a nonexclusive list of situations where a real or apparent Conflict of Interest is present: (1) Using grant funds to pay a member on the applicant's Board of Directors to provide proposed technical assistance to socially disadvantaged groups, (2) Applicant paying a member of a cooperative to provide proposed technical assistance to other members of the same cooperative, or (3) Paying an Immediate family member of the applicant to provide proposed technical assistance to socially disadvantaged groups.

Cooperative. A business or organization owned, democratically governed, controlled and operated by those who use and benefit from it. Profits and losses generated by the organization are distributed in proportion to use as patronage to the user-owners, also known as members. Investment returns to non-members are limited. Eligible Cooperatives for the SDGG program are those where a majority (i.e., greater than 50 percent rounded to the nearest tenth) of the Board of Directors or Governing Board are comprised of individuals who are members of socially disadvantaged groups.

Cooperative Development. A type of technical assistance that establishes and promotes Cooperative businesses through hands-on activities, often but not exclusively, assisting a group through a series of stages. These stages include but are not limited to the following: idea exploration by a group with shared needs, member-use analysis, identifying a steering committee and guiding them through the development process, modeling effective democratic processes and good governance practices, creation of legal and policy documents, conducting a membership drive, raising member equity, acquiring sufficient capital, supporting operations, ongoing education and training, ongoing board development and relations with management, supporting decision-making regarding patronage, and fostering an environment that is supportive of Cooperatives.

Cooperative Development Center—A nonprofit institution or institution of higher education operated by the grantee to start or continue Cooperative Development. An eligible Cooperative Development Center for the SDGG program is one where a majority (i.e., greater than 50% rounded to the nearest tenth) of the Board of Directors or Governing Board is comprised of individuals who are members of socially disadvantaged groups. It may or may not be an independent legal entity separate from the grantee.

Feasibility Study. An analysis of the economic, market, technical, financial, and management feasibility of a proposed project.

Group of Cooperatives. A Group of Cooperatives whose primary focus is to provide assistance to socially disadvantaged groups; each Cooperative must meet the eligibility requirements set forth in the definition of “Cooperative” herein. One of the Cooperatives must be designated as the lead entity and have legal authority to contract with the federal government.

Immediate Family(ies). A group of individuals who live in the same household or who are closely related by blood, marriage, or adoption, such as a spouse, domestic partner, parent, child, sibling, aunt, uncle, grandparent, grandchild, niece, nephew, or first cousin.

Key Personnel. Employees, new hires, consultants, and/or contractors of the Cooperative Development Center who provide technical assistance including Cooperative Development.

Nonprofit Institution. Any organization or institution, including an accredited institution of higher education, no part of the net earnings of which inures, or may lawfully inure, to the benefit of any private shareholder or individual.

Operating Cost. The day-to-day expenses of running a business; for example: utilities, rent on the office space a business occupies, salaries, depreciation, marketing and advertising, and other basic overhead items.

Participant Support Costs. Direct costs for items such as stipends or subsistence allowances, travel allowances, and registration fees paid to or on behalf of participants or trainees (but not employees) in connection with conferences or training projects.

Persistent Poverty County(ies). Is any county that has had 20 percent or more of its population living in poverty over the past 30 years, as measured by the 1990 and 2000 decennial censuses, and 2007-2011 American Community Survey 5-year average, or any territory or possession of the United States.

Project. Eligible activities to be funded by the SDGG grant.

Rural and Rural Area. As described in 7 U.S.C. 1991(a)(13), any area not in a city or town that has a population of more than 50,000 inhabitants, according to the latest decennial census of the United States, or in any urbanized area (note that the Agency has determined that the reference to “urbanized area” should be read as a reference to “urban area” because the Census Bureau no longer identifies urbanized areas individually and instead refers to qualifying areas as “urban areas”) that is contiguous and adjacent to a city or town that has a population of more than 50,000 inhabitants, and any area that has been determined to be “rural in character” by the Under Secretary for RD, or as otherwise identified in this definition as follows:

(1) An area that is attached to the urbanized area of a city or town with more than 50,000 inhabitants by a contiguous area of urbanized census blocks that is not more than two (2) census blocks wide. Applicants from such an area should work with their RD State Office to request a determination of whether their Project is located in a Rural Area under this provision.

(2) Any portion of a Census Bureau-defined “Urban Area” that is not geographically contiguous and that is also neither adjacent nor contiguous to a city or town that has a population of more than 50,000.

(3) For the purposes of this definition, cities and towns are incorporated population centers with definite boundaries, local self-government, and legal powers set forth in a charter granted by the State.

(4) For the purposes of this definition, populations of individuals incarcerated on a long-term or regional basis shall not be included in determining whether an area is “rural” or a “rural area”.

(5) For the purposes of this definition, the first 1,500 individuals who reside in housing located on a military base shall not be included in determining whether an area is “rural” or a “rural area”.

(6) For the Commonwealth of Puerto Rico, the island is considered Rural and eligible for Business Programs assistance, except for the San Juan Census Designated Place (CDP) and any other CDP with greater than 50,000 inhabitants. CDPs with greater than 50,000 inhabitants, other than the San Juan CDP, may be determined to be eligible if they are “not urban in character.”

(7) For the State of Hawaii, all areas within the County of Honolulu are considered Rural and eligible for Business Programs assistance, except for the Urban Honolulu CDP (“the East Honolulu CDP” OR “other areas deemed to be urban in character”).

(8) For the purpose of defining a Rural Area in the Republic of Palau, the Federated States of Micronesia, and the Republic of the Marshall Islands, the Agency shall determine what constitutes Rural and Rural Area based on available population data.

(9) The determination that an area is “rural in character” will be made by the Under Secretary of RD. The process to request a determination under this provision is outlined in paragraph (6)(ii) of this definition.

(i) The determination that an area is “rural in character” under this definition will apply to areas that are within:

(A) An urbanized area that has two points on its boundary that are at least 40 miles apart, which is not contiguous or adjacent to a city or town that has a population of greater than 150,000 inhabitants or the urbanized area of such a city or town; or

(B) An urbanized area contiguous and adjacent to a city or town of greater than 50,000 inhabitants that is within one-quarter mile of a Rural Area.

(ii) Units of local government may petition the Under Secretary of RD for a “rural in character” designation by submitting a petition to both the appropriate RD State Director and the Administrator on behalf of the Under Secretary. The petition shall document how the area meets the requirements of paragraph (6)(i)(A) or (B) above and discuss why the petitioner believes the area is “rural in character,” including, but not limited to, the area's population density, demographics, and topography and how the local economy is tied to a Rural economic base. Upon receiving a petition, the Under Secretary will consult with the applicable Governor or leader in a similar position and request comments to be submitted within 5 business days, unless such comments were submitted with the petition. The Under Secretary will release to the public a notice of a petition filed by a unit of local government not later than 30 days after receipt of the petition by way of publication in a local newspaper and posting on the Agency's website, and the Under Secretary will make a determination not less than 15 days, but no more than 60 days, after the release of the notice. Upon a negative determination, the Under Secretary will provide to the petitioner an opportunity to appeal a determination to the Under Secretary, and the petitioner will have 10 business days to appeal the determination and provide further information for consideration Rural Development (RD). A mission area within USDA consisting of the Office of Under Secretary for RD, RBCS, Rural Housing Service, and Rural Utilities Service, and any successors.

Socially Disadvantaged Group. A group whose members have been subjected to racial, ethnic, or gender prejudice because of their identity as members of a group without regard to their individual qualities.

State. Includes each of the 50 States, the Commonwealth of Puerto Rico, the Virgin Islands of the United States, Guam, American Samoa, and the Commonwealth of the Northern Mariana Islands. References in this program to State, State government, or State agency are meant to include the Commonwealth of Puerto Rico, the Virgin Islands of the United States, Guam, American Samoa, the Commonwealth of the Northern Mariana Islands, and, as may be determined by the Secretary to be feasible, appropriate, and lawful, the Freely Associated States and the Federated States of Micronesia.

Technical Assistance. The process of providing targeted support for the startup, expansion and operational improvement of cooperatively and mutually owned businesses typically delivered via multiple contacts over a period of time. It includes the transfer of skills and knowledge through research and collection of information to provide guidance and advice; assessment and analysis through feasibility studies and business plans, customized training, written information, in person or virtual exchanges, web-based curriculums, and webinars.

4. Application of Awards. The Agency will review, evaluate, and score applications received in response to this notice based on Section E of this notice. Awards under the SDGG program will be made on a competitive basis using specific selection criteria contained in Section E.1 of this notice. The Agency advises all interested parties that the applicant bears the full burden in preparing and applying in response to this notice.

B. Federal Award Information

Type of Award: Grants.

Fiscal Year Funds: FY 2024.

Available Funds: $3,000,000 will be available for FY 2024. The Agency may, at its discretion, increase the total level of funding available in this funding round (or in any category in this funding round) from any available source provided the awards meet the requirements of the statute which made the funding available to the Agency.

Award Amount: Maximum is $175,000.

Anticipated Award Date: September 30, 2024.

Performance Period: One (1) year. See Section C.3(c) of this notice for additional guidance on the grant period.

Renewal or Supplemental Awards: None.

Type of Assistance Instrument: Financial Assistance Agreement.

C. Eligibility Information

1. Eligible Applicants. Grants may be made to individual Cooperatives, Groups of Cooperatives, or Cooperative Development Centers that serve Socially Disadvantaged Groups and of which a majority (i.e., greater than 50 percent rounded to the nearest tenth) of the Board of Directors or Governing Board of the applicant is comprised of individuals who are members of Socially Disadvantaged Groups. An advisory board for the proposed Project does not meet this requirement.

Federally recognized Tribes have a government-to-government relationship with the United States. Therefore, Tribes may consider using a separate entity, such as a tribally-owned business, tribal authority, tribal non-profit, tribal college, or university to apply for SDGG funding that would provide Technical Assistance to members of the Tribe.

Applications submitted must include the following for eligibility determination:

(a) Applicants must verify their legal structure in the State or the Tribe under which the applicants are legally organized or incorporated.

(b) Applicants must demonstrate that all defined requirements for one of the three eligible applicant types have been met (see Section D.2. of this notice). The three eligible applicant types are: individual Cooperatives, Groups of Cooperatives, or Cooperative Development Centers.

An applicant is ineligible if:

(a) It is a public body or individual.

(b) It has been debarred or suspended or otherwise excluded from or ineligible for participation in Federal assistance programs under Executive Order (E.O.) 12549. The Agency will check the Do Not Pay (DNP) system to determine if the applicant has been debarred or suspended at the time of application and prior to funding any grant award.

(c) It has an outstanding judgment obtained by the U.S. in a Federal Court (other than U.S. Tax Court), is delinquent on the payment of Federal income taxes, or is delinquent on Federal debt. The applicant must certify, as part of the application, that there are no outstanding judgments against them. The applicant is responsible for resolving any issues that are reported in the DNP System and if issues are not resolved by the deadline found in this notice, the Agency may proceed to award funds to other eligible applicants.

(d) Any corporation or Cooperative (i) that has been convicted of a felony criminal violation under any Federal law within the past 24 months or (ii) that has any unpaid Federal tax liability that has been assessed, for which all judicial and administrative remedies have been exhausted or have lapsed, and that is not being paid in a timely manner pursuant to an agreement with the authority responsible for collecting the tax liability, is not eligible for financial assistance provided with funds appropriated by the 2024 Appropriations Act, unless a Federal agency has considered suspension or debarment of the corporation and has made a determination that this further action is not necessary to protect the interests of the Government. Certification of compliance with this provision is now completed during registration or annual recertification in the System for Award Management (SAM) at SAM.gov via the Financial Assistance General Certifications and Representations.

2. Cost Sharing or Matching. There is no cost sharing or matching requirement associated with this grant.

3. Other Eligibility Requirements.

(a) Use of funds. Applications must propose Technical Assistance that will benefit Socially Disadvantaged Groups. Any recipient of Technical Assistance must have a membership that consists of a majority of members from Socially Disadvantaged Groups. Please review Section D.6 of this notice carefully.

(b) Project eligibility. Proposed Projects must only serve members of Socially Disadvantaged Groups located in Rural Areas.

(c) Grant period eligibility. Applications must include a grant period of one-year or less or it will not be considered for funding. The proposed time frame should begin no earlier than October 1, 2024, and end no later than December 31, 2025. Applications that request funds for a time period ending after December 31, 2025, will not be considered for funding. Projects must be completed by December 31, 2025, or within 12 months of award funding, whichever is earlier.

The Agency may approve requests to extend the grant period for up to an additional 12 months at its discretion. However, applicants may not have more than one SDGG award during the same grant period. If you extend the period of performance for your current award, you may be deemed ineligible to receive an SDGG in the next grant cycle. Further guidance on grant period extensions will be provided in the award document.

(d) Satisfactory performance eligibility. If applicants have an existing SDGG award, current performance must be satisfactory to be considered eligible for a new SDGG award. Satisfactory performance includes being up to date on all financial and performance reports as prescribed in the grant award and being current on tasks and timeframes for utilizing grant funds as approved in the work plan and budget. If applicants have any unspent grant funds on SDGG awards from Projects prior to September 30, 2022, the application will not be considered for funding. If an applicant's FY 2023 award has unspent funds of 50 percent or more than what the approved work plan and budget projected at the time of evaluation of the FY 2023 application, the FY 2024 application may not be considered for funding. The Agency will verify the performance status of any FY 2023 awards and make a determination after the FY 2024 application period closes.

(e) Completeness eligibility. Applications must provide all the information requested in Section D.2 of this notice. Applications lacking sufficient information to determine eligibility and scoring criteria will be considered ineligible.

(f) Duplication of current services. Applications must demonstrate that services are being provided to new customers or new services to current customers. If the work plan and budget are duplicative of an existing award, the application will not be considered for funding. If the work plan and budget are duplicative of a previous or existing Rural Cooperative Development Grant (RCDG) and/or SDGG award, the application will not be considered for funding.

(g) Multiple grant eligibility. Applicants may submit only one SDGG grant application each funding cycle. If two (2) applications are submitted (regardless of the applicant's name) that include the same Executive Director and/or advisory boards or committees of an existing Cooperative or Cooperative Development Center, both applications will be determined ineligible for funding.

D. Application and Submission Information

1. Application Template. An application template to assist applicants in applying for this funding opportunity is located at www.rd.usda.gov/programs-services/socially-disadvantaged-groups-grant. Use of the application template is strongly recommended to assist with the application process. Application information is also available at www.grants.gov. Applicants may also contact the USDA RD State Office for more information at www.rd.usda.gov/contact-us/state-offices.

2. Content and Form of Application Submission. An application must contain all the required forms and proposal elements outlined below.

(a) Form SF-424, Application for Federal Assistance. This form should include the applicant's Unique Entity Identifier (UEI) number. The UEI is assigned automatically to all active SAM.gov registered entities. If an applicant does not include the UEI number in its application, it will not be considered for funding.

(b) Form SF-424A, Budget Information-Non-Construction Programs. This form must be completed and submitted as part of the application package. Applicants are no longer required to complete the Form SF 424B, Assurances—Non-Construction Programs as a part of the application. This information is now collected through the applicant registration or annual recertification in SAM.gov through the Financial Assistance General Certifications and Representations.

(c) Federal Debt and Judgement Certification. Applicants must certify that there are no current outstanding Federal judgments against the applicant's property and that no grant funds will be used to pay for any judgment obtained by the United States. Applicants must also certify that they are not delinquent on the payment of Federal income taxes, or any Federal debt. There is no standard form to complete, but to satisfy the certification requirement, applicants should include this statement in the application: “[INSERT NAME OF APPLICANT] certifies that the United States has not obtained an unsatisfied judgment against its property, is not delinquent on the payment of Federal income taxes, or any Federal debt, and will not use grant funds to pay any judgments obtained by the United States.” A separate signature is not required.

(d) Table of Contents (TOC). Applications must contain a detailed TOC that includes page numbers for each part of the application. Page numbers should begin immediately following the TOC.

(e) Executive Summary. A summary of the proposal, not to exceed one (1) page, must briefly describe the Project, tasks to be completed, and other relevant information that provides a general overview of the Project.

(f) Eligibility Discussion. A detailed discussion, not to exceed four (4) pages, must describe how the applicant will meet the following requirements:

(1) Applicant Eligibility. Applicants must describe how they meet the definition of a Cooperative, Group of Cooperatives, or Cooperative Development Center. Applications must also show that the individual Cooperative, Group of Cooperatives or Cooperative Development Center has a majority of its Board of Directors or Governing Board comprised of individuals who are members of Socially Disadvantaged Groups, and that the applicant serves Socially Disadvantaged Groups. The application must include a list identifying the entire Board of Directors/Governing Board by name and indicating how each member meets the definition of Socially Disadvantaged Groups.

An application will not be considered for funding if it fails to show that a majority of the Board of Directors/Governing Board (i.e., greater than 50 percent rounded to the nearest tenth) is comprised of individuals who are members of Socially Disadvantaged Groups.

Applicants must verify their incorporation and status in the State in which they have applied by providing the State or Tribe's Certificate of Good Standing and Articles of Incorporation. Bylaws may also be submitted if they provide additional information not included in the Articles of Incorporation that will help verify the applicant's legal status. If applying as an institution of higher education, documentation verifying legal status is not required; however, the applicant must demonstrate that it qualifies as an institution of higher education as defined at 20 U.S.C. 1001. Each applicant can only apply as one (1) type of applicant. The requested verification documents should be included in Appendix A of the application. If the documents are not included, the application will not be considered for funding.

(2) Use of Funds. Applications must include a brief discussion on how the proposed Project activities meet the definition of Technical Assistance and identify the Socially Disadvantaged Groups that will be assisted.

(3) Project Area. Applications must provide specific information that details the location of the Project area and explain how the area meets the definition of Rural Area as defined in Section A.3 of this notice.

(4) Grant Period. Applications must include a time frame for the proposed Project and discuss how the Project will be completed within that time frame. See Section C.3(c) of this notice for more information.

(5) Indirect Costs. Applicants should indicate in the application if there is a negotiated indirect cost rate agreement (NICRA), and if so, the rate. The negotiated indirect cost rate approval does not need to be included in the application, but it will be required to be provided if a grant is awarded. Approval for indirect costs that are requested in an application without an approved indirect cost rate agreement is at the discretion of the Agency.

(g) Scoring Criteria. Each of the scoring criteria in Section E.1 of this notice must be addressed in narrative form, with a maximum of three (3) pages for each individual scoring criterion, unless otherwise specified. Failure to address each scoring criterion will result in the application being determined ineligible.

(h) Annual Performance Evaluation Measures. The Agency has established annual performance evaluation measures to evaluate the SDGG program and how the applicant met the measures. The applicant must provide estimates on the following performance evaluation measures as part of the narrative:

(1) Number of Cooperatives assisted; and

(2) Number of Socially Disadvantaged Groups assisted.

And, if applicable:

(3) Number of jobs created/saved.

(4) Number of jobs created/saved in persistent poverty area and or underserved and economically distressed areas.

(5) Number of business plans developed.

(6) Number of Cooperatives incorporated.

(7) Number of Feasibility Studies completed.

(8) Number of workshops/seminars conducted.

(9) Number of conferences held.

(10) For consumer coops (grocery, retail), number of people with access to goods or services.

3. System for Award Management and Unique Entity Identifier.

(a) At the time of application, applicants must have an active registration in the SAM before applying in accordance with 2 CFR part 25. To register in SAM, entities will be required to obtain a UEI. Instructions for obtaining the UEI are available at sam.gov/content/entity-registration.

(b) Applicants must maintain an active SAM registration, with current, accurate and complete information, at all times during which it has an active Federal award or an application under consideration by a Federal awarding agency.

(c) Applicants must complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

(a) Application Technical Assistance Deadline Date. Prior to official submission of applications, applicants may request technical assistance or other application guidance from their State Office, if such requests are made prior to May 3, 2024. Agency contact information can be found in the ADDRESSES section of this notice.

(b) Application Deadline Date. Complete applications for grants must be submitted electronically no later than 11:59 p.m. ET on June 3, 2024, through www.grants.gov to be eligible for grant funding. Please review the Grants.gov website at www.grants.gov/applicants/applicant-registration for instructions on the process of registering your organization as soon as possible to ensure that you are able to meet the electronic application deadline. No secured/password protected documents are to be uploaded to grants.gov.

Applications received after the deadline are not eligible for funding under this notice and will not be evaluated. The Agency will not solicit or consider new scoring or eligibility information that is submitted after the application deadline. The Agency also reserves the right to ask applicants for clarifying information and additional verification of assertions in the application.

5. Intergovernmental Review. Executive Order (E.O.) 12372 applies to this program. This E.O. requires that Federal agencies provide opportunities for consultation on proposed assistance with State and local governments. Many States have established a Single Point of Contact (SPOC), please see the White House Website: www.whitehouse.gov/omb/management/office-federal-financial-management/. If your State has a SPOC, you may submit a copy of the application directly for review. Any comments obtained through the SPOC must be provided to the USDA RD State Office for consideration as part of your application. If your State has not established a SPOC, you may submit your application directly to the Agency. Applications from Federally recognized Indian Tribes are not subject to this requirement.

6. Funding Restrictions. Grant funds must be used for Technical Assistance as defined.

(a) No funds made available under this notice shall be used to:

(1) Plan, repair, rehabilitate, acquire, or construct a building or facility, including a processing facility;

(2) Purchase, rent, or install fixed equipment, including processing equipment;

(3) Purchase vehicles, including boats;

(4) Pay for the preparation of the grant application;

(5) Pay expenses not directly related to the funded Project;

(6) Fund political or lobbying activities;

(7) Fund any activities considered unallowable by the applicable grant cost principles, including 2 CFR part 200, subpart E and the Federal Acquisition Regulation as stated in 48 CFR Chapter 1, subchapter E, part 31;

(8) Fund architectural or engineering design work for a specific physical facility;

(9) Fund any expenses dealing with production such as produce any commodity or product to which value will be added, including seed, rootstock, labor for harvesting the crop, and delivery of the commodity to a processing facility. Examples also include, but are not limited to, testing commodities, building fencing for livestock, soil amendments, soil enrichments, soil treatments, tools, equipment, soil testing supplies, laboratory fees, hoop houses, software, subscriptions, and advertising or publicity expenses for the assisted Cooperative.

(10) Fund research and development;

(11) Purchase land;

(12) Duplicate current activities or activities paid for by other Federal grant programs;

(13) Pay costs of the Project incurred prior to the date of grant approval;

(14) Pay for assistance to any private business enterprise that does not have at least fifty-one (51) percent ownership by those who are either citizens of the United States or reside in the United States after being legally admitted for permanent residence;

(15) Pay any judgment or debt owed to the United States;

(16) Pay any Operating Costs of the Cooperative, Group of Cooperatives, or Cooperative Development Center not directly related to the Project;

(17) Pay expenses for applicant employee training or professional development not directly related to the Project;

(18) Pay for any goods or services from a person or entity who has a Conflict of Interest with the grantee;

(19) Pay for Technical Assistance provided to a Cooperative that does not have a membership that consists of a majority of members from Socially Disadvantaged Groups; or

(20) Fund expenses or activities relating to production, manufacturing-based costs, cybersecurity equipment, supply chain tracing equipment, and automation costs.

(b) Applications will not be considered for funding if it does any of the following:

(1) Requests more than the maximum grant amount;

(2) Proposes ineligible costs that equal more than ten (10) percent of total grant funds requested; or

(3) Proposes Participant Support Costs that equal more than ten (10) percent of total grant funds requested.

(c) The Agency will consider an application for funding if it includes ineligible costs of ten (10) percent or less of total grant funds requested if it is determined eligible otherwise. However, if the application is successful, those ineligible costs must be removed and replaced with eligible costs before the Agency will make the grant award or the amount of the grant award will be reduced accordingly. If the Agency cannot determine the percentage of ineligible costs, the application will not be considered for funding.

(d) No assistance or funding from this grant can be provided to a hemp producer without a valid license issued from an approved State, Tribal or Federal plan in accordance with Subtitle G of the Agricultural Marketing Act of 1946, as amended (7 U.S.C. 1639o et seq.). Verification of valid hemp licenses will occur at the time of award. The purpose of this program is to provide Technical Assistance, so funding to produce hemp or marketing hemp production is not eligible.

7. Other Submission Requirements. Applications will not be accepted if the text is less than an 11-point font. Applications will not be accepted through mail or courier delivery, in-person delivery, email, or fax. Applications must be submitted electronically through www.grants.gov. A password is not required to access the website. Applicants can locate the Grants.gov downloadable application package for this program by using a keyword, the program name, Assistance Listing number, or the Funding Opportunity Number for this program.

The Grants.gov website provides information about applying electronically through the site, as well as the hours of operation. Users of Grants.gov must already have a UEI number and must also be registered and maintain registration in SAM as detailed in Section D.3 of this notice. The UEI number must be associated with the correct tax identification number of the SDGG applicant. It is strongly recommended that applicants do not wait until the application deadline date to begin the application process through Grants.gov.

Applications must include electronic signatures. Original signatures may be required if funds are awarded. After applying electronically through Grants.gov, applicants will receive an automated acknowledgement from Grants.gov with a Grants.gov tracking number.

E. Application Review Information

1. Selection Criteria. All eligible and complete applications will be evaluated and scored based on the following selection criteria and weights. Evaluators will base scores only on the information provided or cross-referenced by page number in each individual evaluation criterion. SDGG is a competitive program, so applications will receive scores based on the quality of the responses. Simply addressing the criteria will not guarantee higher scores. The total points possible for the criteria are 105.

(a) Technical Assistance (maximum score of 25 points). Three-page limit. A panel of USDA employees will evaluate the applications to determine the ability to assess the needs of and provide effective Technical Assistance to Socially Disadvantaged Groups. Applicants must discuss the following:

(1) Needs of the Socially Disadvantaged Groups to be assisted and explain how those needs were determined,

(2) Proposed Technical Assistance to be provided to the Socially Disadvantaged Groups; and

(3) Expected outcomes of the proposed Technical Assistance, including how Socially Disadvantaged Groups will benefit from participating in the Project. Applicants will score higher on this criterion if examples of the entity's past Projects that demonstrate successful outcomes in identifying specific needs and providing Technical Assistance to Socially Disadvantaged Groups are provided.

(b) Work Plan/Budget (maximum of 25 points). Six-page limit. Work plans must provide activities to be completed, including specific and detailed descriptions of all tasks. Work plans must indicate all the Key Personnel, who will accomplish the Project's activities that align with the goals of the Project. The budget will be reviewed for completeness. Applicants must list what tasks are to be done, when the tasks will be done, who will do the tasks, and a detailed account of how much each task will cost. Reviewers must be able to understand what is being proposed and how all the grant funds will be spent. The budget must provide a detailed breakdown of estimated costs. These costs should be allocated to each of the tasks to be undertaken. (For example: Joe Smith has committed 20 percent of his work time. Joe's salary is $60,000 × 20% (0.20) = $12,000. This Project requires travel within the United States. The distance from Joe's office to the airport is 150 miles at $0.585/mile = $175.50 Round trip. The overnight trip includes lodging expense with tax at $189/night for 3 overnights = $567.00. Supplies include 2 boxes of paper at $50 each = $100 as an example.) A panel of USDA employees will evaluate the work plan for detailed actions and an accompanying timetable for implementing the proposal. Applicants will receive a higher score to the extent that they provide a clear, detailed, logical, realistic, and efficient plan that matches and reconciles with the Form SF424A and that allocates costs to specific tasks using applicable budget object class categories (See SF 424-A, Block 6 a-c, e-h, and j). At a minimum, the following must be discussed:

(1) Specific tasks to be completed using grant funds;

(2) How customers will be identified and selected;

(3) Key Personnel and how their work and experience is tied to the work plan task (or if not yet hired, a description of new employee qualifications must be tied to the work plan task); and

(4) The evaluation methods to be used by the applicant to determine the success of specific tasks and overall Project activities and objectives. Please provide qualitative methods of evaluation. For example, evaluation methods should be measurable and go beyond quantitative measurements of completing surveys or number of evaluations. Examples include discussions of pre-test, post-test, and the evaluation of how task results will be measured.

(c) Experience (maximum score of 25 points). Three-page limit. A panel of USDA employees will evaluate the applicant's experience, commitment, and availability for identified staff or consultants in providing Technical Assistance, as defined in Section A.3 of this notice. Applicants must describe the Technical Assistance experience for each identified staff member or consultant, as well as years of experience in providing that assistance. Applicants must discuss the commitment and the availability of identified staff, consultants, or other professionals to be hired for the Project, especially those who may be consulting on multiple SDGG/RCDG Projects. If staff or consultants have not been selected at the time of application, the applicants must provide specific descriptions of the qualifications required for the positions to be filled. In addition, resumes for each individual staff member or consultant must be included as an attachment in Appendix B of the application. The attachments will not count toward the maximum page total. The Agency will compare the described experience in this section and in the resumes to the work plan to determine relevance of the experience. Applications that do not include the attached resumes will not be considered for funding. Applications that demonstrate strong credentials, education, capabilities, experience, and availability of Project personnel, that will contribute to a high likelihood of Project success will receive more points than those that demonstrate less potential for success in these areas. In addition, for SDGG program Key Personnel, resumes must list all Cooperatives or Boards of Directors, in which they are part of.

Points will be awarded as follows:

(1) 0 points will be awarded if you do not substantively address the criterion.

(2) 1 to 9 points will be awarded if qualifications and experience of some, but not all, staff is addressed and, if necessary, qualifications of unfilled positions are not provided.

(3) 10 to 14 points will be awarded if paragraph (2) of this section is met, plus all Project personnel are identified but do not demonstrate qualifications or experience relevant to the Project.

(4) 15 to 19 will be awarded if paragraphs (2) and (3) of this section are met, plus most, but not all, Key Personnel demonstrate strong credentials and/or experience, and availability indicating a reasonable likelihood of success.

(5) 20 to 25 points will be awarded if paragraphs (2) through (4) of this section are met, plus all personnel demonstrate strong, relevant credentials or experience and availability indicating a high likelihood of Project success.

(d) Commitment (maximum of 10 points). Three-page limit. A panel of USDA employees will evaluate the applicant's commitment to providing Technical Assistance to Socially Disadvantaged Groups in Rural Areas. Applicants must list the number and location (full address if known and at a minimum provide county(ies)) of Socially Disadvantaged Groups that will directly benefit from the assistance provided. Applicants must define and describe the underserved and economically distressed areas within the applicant's service area and provide current and relevant statistics that support the applicant's description of the service area. Projects located in Persistent Poverty Counties as detailed in Section A.2 of this notice, if discussed, will score higher on this criterion.

(e) Local support (maximum of 10 points). Three-page limit. A panel of USDA employees will evaluate applications for local support of the Technical Assistance activities. Discussion on local support should include previous and/or expected local support and plans for coordinating with other developmental organizations in the proposed service area or with Tribal, State, and local government institutions. Applications that demonstrate strong support from potential beneficiaries and other developmental organizations will score higher. A maximum of 10 letters of support may be included with the application. Points will be awarded as follows:

(1) 0 points are awarded if the applicant does not adequately address this criterion.

(2) A range of 1 to5 points are awarded if the applicant demonstrates support from potential beneficiaries and other developmental organizations in the discussion but does not provide letters of support.

(3) Additional 1 point is awarded if 2 or 3 support letters are provided and show support from potential beneficiaries and/or support from local organizations.

(4) Additional 2 points are awarded if 4 or 5 support letters are provided and show support from potential beneficiaries and/or support from local organizations.

(5) Additional 3 points are awarded if 6 or 7 support letters are provided and show support from potential beneficiaries and/or support from local organizations.

(6) Additional 4 points are awarded if 8 or 9 support letters are provided and show support from potential beneficiaries and/or support from local organizations.

(7) Additional 5 points are awarded if 10 support letters are provided and show support from potential beneficiaries and/or support from local organizations.

Support letters should be signed and dated after the publication date of this notice and should come from potential beneficiaries and other local organizations. Letters received from Congressional members, or Technical Assistance providers/contractors paid with grant funding, will not be included in the count of support letters received. Additionally, letters having the appearance of being identical in form and signed by multiple potential beneficiaries and/or local organizations will not be included in the count of support letters received. Support letters should be included as an attachment to the application in Appendix C and will not count against the maximum page total. Additional letters from industry groups, commodity groups, Congressional members, and similar organizations should be referenced but not included in the application package. When referencing these letters, provide the name of the organization, the date of the letter, the nature of the support, and the name and title of the person signing the letter.

(f) Administrator Discretionary Points (maximum of 10 points). The Administrator may choose to award points to applications where:

(1) The applicant has never received a SDGG award—5 points; and/or

(2) The applicant seeks to advance one or more key priorities addressed in the Supplementary Information, Overview section of this notice—5 points. Applicants seeking these points must discuss in the application (1 page limit) if they are first time applicants and are seeking to advance one or more key priorities: (i) Assisting rural communities recover economically through more and better market opportunities and through improved infrastructure. Applicant would receive priority points if the project is located in or serving a rural community whose economic well-being ranks in the most distressed tier (distress score of 80 or higher) of the Distressed Communities Index using the Distressed Communities Look-Up Map available at www.rd.usda.gov/priority-points.

(ii) Ensuring all rural residents have equitable access to RD programs and benefits from RD funded projects. Using the Social Vulnerability Index (SVI) Look-Up Map (available at www.rd.usda.gov/priority-points), an applicant would receive priority points if the project is:

• Located in or serving a community with score 0.75 or above on the SVI;

• Is a Federally recognized Tribe, including Tribal instrumentalities and entities that are wholly owned by Tribes; or

• Is a project where at least 50 percent of the project beneficiaries are members of Federally Recognized Tribes and non-Tribal applicants include a Tribal Resolution of Consent from the Tribe or Tribes that the applicant is proposing to serve.

(iii) Reducing climate pollution and increasing resilience to the impacts of climate change through economic support to rural communities. Using the Disadvantaged Community and Energy Community Look-Up Map (available at www.rd.usda.gov/priority-points), applicants will receive priority in three ways:

• If the project is located in or serves a Disadvantaged Community as defined by the Climate and Economic Justice Screening Tool (CEJST), from the White House Council on Environmental Quality;

• If the project is located in or serves an Energy Community as defined by the Inflation Reduction Act (IRA); and

• If applicants can demonstrate through a written narrative how the proposed climate-impact projects will improve the livelihoods of community residents and meet pollution mitigation or clean energy goals.

See the website, https://www.rd.usda.gov/priority-points, for options.

2. Review and Selection Process. Applications will be reviewed in the USDA RD State Offices to determine if they are eligible for assistance based on requirements in this notice, and other applicable Federal regulations. If determined eligible, applications will be scored by a panel of USDA employees in accordance with the point allocation specified in this notice. The review panel will convene to reach a consensus on the scores for each of the eligible applications. The Administrator may choose to award up to 10 Administrator priority points based on Section E.1(f) of this notice. These points will be added to the cumulative score for a total possible score of 105. Applications will be funded from highest ranking order until the funding limitation has been reached. Applications that cannot be fully funded may be offered partial funding at the Agency's discretion. The Agency reserves the right to offer the applicant less than the grant funding requested. Applications that are ranked and not funded will not be carried forward into the next competition.

F. Federal Award Administration Information

1. Federal Award Notices. Applicants selected for funding will receive a signed notice of Federal award, by postal or electronic mail, containing instructions on requirements necessary to proceed with execution and performance of the award.

Applicants not selected for funding will be notified in writing via postal or electronic mail and informed of any review and appeal rights. Funding of successfully appealed applications will be limited to available FY 2024 funding.

2. Administrative and National Policy Requirements. Additional requirements that apply to grantees selected for this program can be found in 2 CFR parts 200, 400, 415, 417, 418, and 421. All recipients of Federal financial assistance are required to report information about first tier subawards and executive compensation in accordance with 2 CFR part 170, Appendix A. Recipients will be required to have the necessary processes and systems in place to comply with the Federal Funding Accountability and Transparency Act reporting requirements of 2 CFR 170.200(b), unless they are exempt under 2 CFR 170.110(b).

The following additional requirements apply to grantees selected for this program:

(a) Execution of an Agency approved Grant Agreement.

(b) Acceptance of a written Letter of Conditions.

(c) Submission of Form RD 1940-1, Request for Obligation of Funds.

(d) Submission of Form RD 1942-46, Letter of Intent to Meet Conditions.

(e) Assurance Agreement. By signing the Financial Assistance General Certifications and Representations in SAM, grant recipients affirm that they will operate the program free from discrimination. The grant recipients will maintain the race and ethnic data on their board members and the beneficiaries of the program. The grant recipient will provide alternative forms of communication to persons with limited English proficiency. The Agency will conduct civil rights compliance reviews on grant recipients to identify the collection of racial and ethnic data on program beneficiaries. In addition, the compliance review will ensure that equal access to the program benefits and activities are provided for persons with disabilities and language barriers.

3. Reporting. After grant approval and through grant completion, applicants will be required to provide the following:

(a) An SF-425, Federal Financial Report, and a project performance report will be required on a semiannual basis (due 30 calendar days after the end of the semiannual period). The project performance reports shall include a comparison of actual accomplishments to the objectives established for that period;

(b) A statement providing reasons why established objectives were not met, if applicable;

(c) A statement providing reasons for any problems, delays, or adverse conditions, if any, which have affected or will affect attainment of overall Project objectives, prevent meeting time schedules or objectives, or preclude the attainment of objectives during established time periods, and a description of the action taken or planned to resolve the situation;

(d) Objectives and timetable established for the next reporting period;

(e) A final Project and financial status report within 90 days after the expiration or termination of the grant in accordance with 2 CFR 200.344; and

(f) Outcome Project performance reports and final deliverables.

G. Agency Contacts

For general questions about this notice and for program technical assistance, please see the contact information in the ADDRESSES and FOR FURTHER INFORMATION CONTACT sections of this notice.

H. Other Information

1. Paperwork Reduction Act. In accordance with the Paperwork Reduction Act of 1995 (Pub. L. 104-13), the information collection requirements associated with the program, as covered in this notice, have been approved by the Office of Management and Budget (OMB) under OMB Control Number 0570-0052.

2. National Environmental Policy Act. All recipients under this notice are subject to the requirements of 7 CFR part 1970. However, awards for Technical Assistance and training under this notice are classified as a Categorical Exclusion according to 7 CFR 1970.53(b), and usually do not require any additional documentation. RBCS will review each grant application to determine its compliance with 7 CFR part 1970. The applicant may be asked to provide additional information or documentation to assist RBCS with this determination.

3. Federal Funding Accountability and Transparency Act. All applicants, in accordance with 2 CFR part 25, must be registered in SAM and have a UEI number as stated in Section D.3 of this notice. All recipients of Federal financial assistance are required to report information about first-tier subawards and executive total compensation in accordance with 2 CFR part 170.

4. Civil Rights Compliance Requirements. All grants made under this notice are subject to Title VI of the Civil Rights Act of 1964 as required by the USDA in accordance with 7 CFR part 15, subpart A and Section 504 of the Rehabilitation Act of 1973, Title VIII of the Civil Rights Act of 1968, Title IX, Executive Order 13166 (Limited English Proficiency), Executive Order 11246, and the Equal Credit Opportunity Act of 1974.

5. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English upon request. All requirements found in 2 CFR 200.111 must be adhered to. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Kathryn E. Dirksen Londrigan,
Administrator, Rural Business-Cooperative Service, Rural Development.

[FR Doc. 2024-07005 Filed 4-2-24; 8:45 am]

BILLING CODE 3410-XY-P